NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 4, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001

Email: request.schedule@nara.gov.

FAX: 301-837-3698

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-10-7, 10 items, 1 temporary item). Records related to geographic information system coordination. Proposed for permanent retention are fire dispatch logs, land transfer case files, records of high-level officials, special maps, surveys, and sign and poster guidelines.

2. Department of Defense, Office of the Secretary of Defense (N1-330-11-8, 2 items, 2 temporary items). Records relating to school accident and injury reports.

3. Department of Defense, Office of the Secretary of Defense (N1-330-11-9, 1 item, 1 temporary item). Records relating to the Pentagon force technical surveillance countermeasures investigations, including findings and mitigating recommendations.

4. Department of Health and Human Services, Centers for Medicare & Medicaid Services (DAA-0440-2012-0008, 1 item, 1 temporary item). Certifications, amendments, and other records related to the administration of the Medicaid program by each state.

5. Department of the Interior, Office of the Assistant Secretary of Indian Affairs (N1-75-09-7, 6 items, 1 temporary item). Scanned images of student scholastic and health documents that fail to meet archival standards. The original documents are saved in the corresponding paper files for permanent retention. Proposed for permanent retention are master files of an electronic information system containing information about Native American students.

6. Department of the Interior, Office of the Secretary (N1-48-11-1, 34 items, 4 permanent items). Records of the Office of Environmental Policy and Compliance, including records relating to environmental compliance, stewardship and partnerships, environmental reviews, and resource protection and planning. Proposed for permanent retention are environmental policy files, central hazardous materials fund site files for which the office has direct cleanup and restoration responsibility, sustainability reports and plans, and historically significant incident response files.

7. Department of the Interior, Office of the Secretary (DAA-0048-2012-0003, 1 item, 1 temporary item). Reference papers collected and used by the regulatory staff to respond to routine information requests from members of Congress and the courts.

8. Department of Justice, Antitrust Division (N1-60-11-5, 1 item, 1 temporary item). Ad hoc system reports about class action lawsuits. Proposed for permanent retention are master files of the electronic information system used to track class action lawsuits.

9. Department of the Navy, Agency-wide (DAA-0344-2012-0001, 2 items, 2 temporary items). Master files of an electronic information system containing information on explosive devices used for reference purposes by the Explosive Ordnance Disposal community of the Armed Services.

10. Department of State, Bureau of Diplomatic Security (DAA-0059-2011-0010, 3 items, 3 temporary items). Investigative case files of criminal and administrative misconduct involving personnel, contractors, and dependents at posts abroad and administrative misconduct by Department employees and contractors domestically. Also included are master files of an electronic information system that provides case tracking and management of information related to investigative cases.

11. Department of the Treasury, Internal Revenue Service (N1-58-11-1, 8 items, 8 temporary items). Master files, outputs, and documentation for an electronic system used to administer a low-income housing program. Also includes forms and other administrative records from this program.

12. National Oceanic and Atmospheric Administration, National Marine Fisheries Service (N1-370-12-2, 2 items, 2 temporary items). Master files of an electronic information system used to track appeals. Also includes appeals case files.

13. National Oceanic and Atmospheric Administration, National Environmental Satellite, Data and, Information Services (DAA-0370-2012-0001, 1 item, 1 temporary item). Non-disclosure agreements that prohibit unauthorized disclosure of information related to satellite systems and vendors.

Paul M. Wester, Jr.,
Chief Records Officer for the U.S. Government.

[FR Doc. 2012-21713 Filed 8-31-12; 8:45 am]

BILLING CODE 7515-01-P